DEPARTMENT OF COMMERCE

International Trade Administration

(A-351-806)

Silicon Metal from Brazil: Revocation of Antidumping Duty Order

AGENCY: Import Administration, International Trade Administration, Department of Commerce.

SUMMARY: On January 3, 2006, the Department of Commerce initiated and the International Trade Commission instituted a sunset review of the antidumping duty order on silicon metal from Brazil. As a result of the review, the International Trade Commission determined that revocation of the order on silicon metal from Brazil would not be likely to lead to continuation or recurrence of material injury to an industry in the United States within a reasonably foreseeable time. Therefore, the Department of Commerce is revoking this antidumping duty order.

EFFECTIVE DATE: February 16, 2006.

FOR FURTHER INFORMATION CONTACT: Janis Kalnins or Minoo Hatten, Office 5, AD/CVD Operations, Import Administration, International Trade Administration, U.S. Department of Commerce, 14th Street & Constitution Avenue, NW, Washington, DC 20230; telephone: (202) 482-1392 and (202) 482-1690, respectively.

SUPPLEMENTARY INFORMATION:

Scope of the Order

The merchandise covered by this order is silicon metal from Brazil containing at least 96.00 percent but less than 99.99 percent silicon by weight. Also covered by this order is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule (HTS) as a chemical product, but is commonly referred to as a metal. Semiconductor grade silicon (silicon metal containing by weight not less than 99.99 percent silicon and provided for in subheading 2804.61.00 of the HTS) is not subject to the order. Although the HTS item numbers are provided for convenience and for customs purposes, the written description remains dispositive.

Background

On February 16, 2001, the Department of Commerce (the Department) published the continuation of the antidumping duty order on silicon metal from Brazil resulting from the first sunset review of this order. See Continuation of Antidumping Duty Orders on Silicon Metal From Brazil and China and on Silicomanganese From Brazil and China, and Continuation of Suspended Antidumping Duty Investigation on Silicomanganese From Ukraine, 66 FR 10669 (February 16, 2001). Pursuant to section 751(c) of the Tariff Act of 1930, as amended (the Act), and 19 CFR 351.218, the Department initiated and the International Trade Commission (ITC) instituted the second sunset review of the order on silicon metal from Brazil on January 3, 2006. See Initiation of Five-Year (Sunset) Reviews, 71 FR 91 (January 3, 2006); Institution of Five-Year Reviews Concerning the Antidumping Duty Orders on Silicon Metal from Brazil and China, 71 FR 138 (January 3, 2006). As a result of its review, the Department found that revocation of the order would likely lead to continuation or recurrence of dumping and notified the ITC of the magnitude of the margin likely to prevail were the order to be revoked. See Silicon Metal from the People's Republic of China and Brazil: Final Results of the Expedited Reviews of the Antidumping Duty Orders, 71 FR 26334 (May 4, 2006). On December 11, 2006, the ITC determined pursuant to section 751(c) of the Act that revocation of the antidumping duty order on silicon metal from Brazil would not be likely to lead to continuation or recurrence of material injury to an industry in the United States within a reasonably foreseeable time. See Silicon Metal From Brazil and China, 71 FR 71554 (December 11, 2006), and ITC Publication 3892 (December 2006) entitled Certain Silicon Metal from Brazil and China: Investigation Nos. 731-TA-471 and 472 (Second Review).

Determination to Revoke

As a result of the determination by the ITC that revocation of this antidumping duty order is not likely to lead to continuation or recurrence of material injury to an industry in the United States, the Department is revoking the order on silicon metal from Brazil, pursuant to section 751(d) of the Act. Pursuant to section 751(d)(2) of the Act and 19 CFR 351.222(i)(2)(i), the effective date of revocation is February 16, 2006 (i.e., the fifth anniversary of the date of publication in the Federal Register of the notice of continuation of the antidumping duty order). The Department will notify U.S. Customs and Border Protection to discontinue suspension of liquidation and collection of cash deposits on entries of the subject merchandise entered or withdrawn from warehouse on or after February 16, 2006, the effective date of revocation of the antidumping duty order. The Department will complete any pending administrative reviews of this order and will conduct administrative reviews of subject merchandise entered prior to the effective date of revocation in response to appropriately filed requests for review.

This five-year sunset review and notice are in accordance with section 751(d)(2) and published pursuant to section 777(i)(1) of the Act.

Dated: December 14, 2006.
David M. Spooner,
Assistant Secretary for Import Administration.

[FR Doc. E6-21848 Filed 12-20-06; 8:45 am]

Billing Code: 3510-DS-S